Title 3—

The President

Proclamation 10881 of January 14, 2025

Establishment of the Chuckwalla National Monument

By the President of the United States of America

A Proclamation

In southeastern California, where the Mojave and Colorado Deserts intersect, ancient trails weave through a land of canyon-carved mountain ranges bound together by radiating alluvial bajadas and dark tendrils of dry wash woodlands. Sharing a name with the wide-bodied lizard that is commonly found here and derived from the Cahuilla word “čáxwal,” the Chuckwalla region is a place of wonder that lies within the traditional homelands of the Iviatim (Cahuilla), Nüwü (Chemehuevi), Pipa Aha Macav (Mojave), Kwatsáan (Quechan), Maara'yam and Marringayam (Serrano), and other Indigenous peoples. It is imbued with religious, spiritual, historic, and cultural significance for Tribal Nations that trace their origins to these lands. The area contains an abundance of artifacts attesting to its connection to diverse human communities over thousands of years. The region's mosaic of habitats is also home to a remarkable array of plant and animal species. The dramatic contortions of its mountain ranges embody a fundamental story about the shaping of our world that scientists are still learning to decipher. The cultural, geologic, and ecological resources on Federal lands in the Chuckwalla region will continue to inspire and fascinate people and provide a scientific research trove for generations to come.

The Chuckwalla region comprises five geographically discrete areas located between Joshua Tree National Park and the Palen/McCoy Wilderness to the north, California State Route 78 to the east, the Chocolate Mountain Aerial Gunnery Range to the south, and the western boundary of the Mecca Hills Wilderness to the west. Woven together by the physical threads of Indigenous trails that radiate outward connecting peoples and places throughout the Southwest, the region carries significant cultural and sacred meaning for many Tribal Nations. The southern area is a vast and intact expanse of austere, beautiful mountain ranges and desert valleys stretching from the Mecca Hills and Orocopia Mountains in the northwest, to the Mule and Palo Verde Mountains in the northeast, and to the mesquite-studded draws of the Milpitas Wash in the southeast. The other four areas, which lie in the transition zone between the Mojave and Colorado deserts, are located at the base of the Cottonwood, Eagle, Coxcomb, and Palen Mountains.

The imprints of generations of Indigenous peoples are found throughout the region in the trails, tools, habitation sites, and spectacular petroglyphs and pictographs they left behind. The Chuckwalla region has also been marked by the passage of people on the major prehistoric and historic travel corridors that connected the region to the Pacific coast and the interior southwest. While only a small fraction of the region has been formally inventoried, myriad cultural resources have been documented, and there are likely similar historic sites and objects yet to be discovered. A few sites are well-known and easily accessible to the public; many others are concealed in labyrinths of rugged canyons and have not yet been formally studied.

Trails within the area helped to link important resources and people across the Indigenous homelands of the Chuckwalla region. For centuries, they facilitated trade and cultural exchange between peoples throughout the Southwest. Weaving through canyons, the trails connected indispensable water and other resources throughout the area. They were, and are, essential to the people who trace their origins to these lands, and provide a sense of connection between generations and between the physical and spiritual worlds.

In some places, the footfalls of past generations have etched these trails into the region's surface, wearing a clear path into desert pavement. Ceramics and lithic scatter are also commonly found along trail routes within the Chuckwalla region. The endless shifting of sand and alluvium have likely obscured artifacts in some locations. A prehistoric travel route ran through the core of the northern area between the Eagle and Coxcomb Mountains, connecting the Pinto Basin, where some of California's oldest artifacts have been found, and the Chuckwalla Valley. The relatively narrow gap between the Eagle and Coxcomb Mountains traversed by the corridor also creates the conditions for flash floods; as a result, artifacts are likely to be found below the surface of the wash rather than on its surface.

At least two trails that traverse the Chuckwalla region are sacred to Tribal Nations and bind their members to the land and to generations past. These trails, of which physical traces remain, are both ancient and modern, tangible places and passages that Tribes and Indigenous peoples evoke and visit through songs and dreams. Two versions of the Salt Song Trail pass through the region, connecting it to Tribal communities and sacred sites throughout the Southwest physically and through songs describing corridors, viewsheds, and the related geography and resources. While the Salt Song Trail can be traveled by foot, traditional singers also travel this trail by voice through songs passed down across generations and that Tribes and Indigenous peoples believe assist the transport of the spirits of the recently deceased.

The Xam Kwatchan Trail, which parallels the Colorado River in the vicinity of the Mule and Palo Verde Mountains along the eastern edge of the southern area, is maintained by the Quechan people and recognized by many other Tribes of the Lower Colorado River. Portions of the Xam Kwatchan Trail are still visible and may be traveled physically as the trail weaves through the area and links together three sacred peaks of the Southwest: Avi Kwa Ame to the north of the Chuckwalla region near Lake Mead, Palo Verde Peak within the southern Chuckwalla region and overlooking the Colorado River, and Pilot Knob to the south of the Chuckwalla region near Yuma, Arizona. It is a belief of the Quechan people that they also travel this trail through dreams to transport the living and deceased, and to tie them to these lands and to their origin at Avi Kwa Ame. The Palo Verde and Mule Mountains encompass sites of particular significance along this trail. The eastern side of the Palo Verde Mountains is particularly dense with evidence of human habitation, including trails, camp spots, and ceremonial fire hearths.

The Chuckwalla region has no perennial streams or lakes, but hidden within the southern area's mountain ranges are springs and natural seasonal water catchments (often referred to as tanks). Knowledge of these water sources has allowed Indigenous people to survive within this arid environment for thousands of years. The locations surrounding these springs and tanks are replete with artifacts, including stone tools, ceramics, remnants of habitations, and a dazzling array of petroglyphs and pictographs. In some places, the patina of naturally created desert pavement has been scraped away to form circles and images known as geoglyphs.

In a wide canyon at the heart of the Chuckwalla Mountains lies Corn Springs, a well-known cultural site. Amid the mountain range's rugged peaks and dry washes, the oasis at Corn Springs, which supports a stand of more than 60 California fan palms, has long been a beacon to the area's human occupants. Corn Springs contains extensive petroglyphs encompassing a diverse array of elements and representing contributions by many people over thousands of years. These petroglyphs, which are listed on the National Register of Historic Places, are carved into flat planes on the golden rocks found near Corn Springs.

Jutting from the desert floor north of Corn Springs, in an area just south of the community of Desert Center, sits Alligator Rock. A salient ridge containing dikes of aplite, Alligator Rock was both a milestone on the major Indigenous travel and trade route that passed through Chuckwalla Valley and an important prehistoric source of lithic materials. Flakes and tools crafted from the area's distinctive speckled stone have been documented in sites throughout Chuckwalla Valley.

In the eastern area, northeast of Alligator Rock and Corn Springs and north of the Little Chuckwalla Mountain Wilderness, Ford Dry Lake is now a sparsely vegetated playa in the Chuckwalla Valley at the base of the Palen and McCoy Mountains. Dense cultural sites have been documented along the lake's ancient shorelines, attesting to its use by generations of Indigenous peoples. Artifacts uncovered here include a variety of stone tools, ceramics, and other evidence of Indigenous habitation sites.

While seemingly inhospitable to humans, the Chuckwalla region has provided sustenance and material resources to the Indigenous peoples who have inhabited and traversed it for generations. Many of the region's native plants were gathered for food, including mesquite and ironwood seeds, wild grasses, and cacti. Mesquite, which thrives in the dry washes of the southern area between the Chocolate and Palo Verde Mountains, was a particularly important source of sustenance. Large quantities of the beans were collected in the summer and stored for use throughout the year. In 1972, a large ceramic olla (an earthenware vessel) containing mesquite beans was discovered in a rock shelter in the canyon-striated Mecca Hills of the far western corner of the southern area.

By the mid-1800s, the Chuckwalla region had caught the attention of non-Indigenous Americans seeking wealth in the underbelly of its mountains. In the 1860s, the Mule Mountains—near the California-Arizona border—were the site of one of the first discoveries of gold in Riverside County. Two decades later, the largest gold rush in Riverside County's history occurred when gold and silver were discovered in the Chuckwalla Mountains. Relics of historic mines, including shafts, trenches, equipment, and remnants of buildings, are present throughout the region's mountain ranges. A mining shaft, conveyor, and loading dock associated with the Model Mine, which operated around the turn of the last century, are located in the western foothills of the Chuckwalla Mountains.

In 1862, as gold seekers spread throughout the region, a miner named William Bradshaw sought to develop a route to connect the Coachella Valley with expanding mines on the east side of the Colorado River. A Cahuilla leader and another Indigenous trail runner provided Bradshaw with a map of existing Indigenous routes linking springs and tanks along the southern edge of the Orocopia, Chuckwalla, and Little Chuckwalla Mountains. He used the knowledge shared with him of these existing Indigenous trails to identify what became known as the “Bradshaw Trail,” an overland route that traverses the Chuckwalla Bench through the heart of the southern area. Some of the springs and tanks, which had long been used by Indigenous peoples, became stagecoach stations associated with the Bradshaw Trail. Intrepid visitors can still drive the unpaved Bradshaw Trail, which the Bureau of Land Management (BLM) designated as a National Backcountry Byway in 1992.

In 1942, shortly after the United States entered World War II, the Department of the Army established a presence in the Chuckwalla region, reminders of which can still be seen across the terrain. In March of 1942, Major General George Patton selected a large swath of desert in California and Nevada, including a substantial amount of land in the Chuckwalla Valley, for a Desert Training Center to prepare United States Army units for desert combat. By the end of World War II, over a million soldiers had been trained at the facility. Small unit training exercises were held in Chuckwalla Valley, which the Army believed provided the best approximation of terrain they might face in parts of North Africa. The scars of tank tracks across the southern area's desert pavement can still be seen today, along with berms, trenches, and foxholes.

The Chuckwalla region includes the footprint of Camp Young, the Desert Training Center's first camp and its administrative core. Camp Young was primarily located south of present-day Joshua Tree National Park and north of Interstate 10 in the western area. While none remain standing, Camp Young boasted almost 100 administrative buildings, two hospitals, 50 warehouses, a theater, an officers' club, and a post office. Traces of the soldiers' lives at Camp Young can still be seen here, including rock-lined walkways and remnants of concrete foundations.

During his tenure at the Desert Training Center, General Patton lived at Camp Young but was in the field on a daily basis, including to review small unit training exercises in the Chuckwalla Valley. He would often shout orders into a radio while observing tank maneuvers from a hill overlooking the valley between the Orocopia and Chuckwalla Mountains, in the center of the Chuckwalla region's southern area. The road bulldozed for Patton's use to the top of this hill, known as “The King's Throne,” remains clearly visible.

Against this backdrop of human history, the Chuckwalla region's many and varied plant and animal inhabitants have continued to persevere in the harsh desert environment. The region provides a refuge for more than 50 rare plants and animals, as well as 21 vulnerable vegetation communities. The diversity of biota has attracted numerous scientists over many decades who have conducted research into topics as varied as testing translocation methods for bighorn sheep, studying ant colony forming behavior, and documenting the demographic patterns of the Orocopia sage, a shrub with delicate lavender flowers that is only known to grow in the Mecca Hills and Orocopia and Chocolate Mountains.

The broad bajadas of the southern area radiate out from a series of small mountain ranges, whose sinuous canyons and ragged peaks provide habitat to a variety of species. The washes and sandy slopes of the Orocopia Mountains are home to Orocopia sage. The Mecca aster is endemic to only a small area, with more than half of its known occurrences located in the Mecca Hills. Mountain areas in the Chuckwalla region are also the only known locations of the recently described Chuckwalla cholla, a relatively low-lying cactus with reddish flowers.

Desert bighorn sheep, a sensitive species with declining numbers, live year-round on the craggy slopes of the Orocopia and Chuckwalla Mountains and are occasionally glimpsed in the Palo Verde and Little Chuckwalla Mountains. The broad, sandy washes that connect the mountains—unbroken by paved roads or large developments—provide the habitat connectivity necessary to preserve genetic diversity among bighorn sheep populations.

The region's expanse of gently sloping shrubby terrain is also vital to the survival of the threatened Agassiz's desert tortoise, encompassing key components of an essential corridor connecting the tortoise's Chuckwalla and Chemehuevi populations. Much of the region is critical habitat for this charismatic desert dweller.

Located in the southern area of the Chuckwalla region, the Chuckwalla Bench is an elevated area of alluvial fans that provided a setting for extensive study and monitoring of desert tortoises for decades. It is also home to over 150 native plant species. The specific species present change with elevation as the bench's slopes climb to an 80,000-acre expanse that rises to approximately 2,000 feet in elevation, resulting in an environment that is notably cooler and wetter than is typical for the Sonoran Desert. At the higher elevations, Mojave yucca and cholla become increasingly common. The Munz's cholla, a species endemic to the Chuckwalla Bench whose spiny, branching arms often reach a height of six feet, grows here.

In part because of the relative availability of forage and water, the Chuckwalla Bench is included in the United States Fish and Wildlife Service's primary area of interest for Sonoran Desert pronghorn reintroduction in California. In 1941, around the time that the United States Army began desert training in the area, the endangered Sonoran Desert pronghorn was last observed in the Colorado Desert in the vicinity of Salt Creek Wash, which runs between the Orocopia and Chocolate Mountains.

Dry washes in the Chuckwalla region are threaded with populations of desert trees including ironwood, blue palo verde, smoketree, and mesquite. These are known as microphyll woodlands, and they provide migration corridors for desert wildlife, as well as crucial habitat for migratory birds. Milpitas Wash, located south of the Palo Verde Mountains in the southern area near the Arizona border, is one of the largest remaining microphyll woodlands in the Colorado Desert. It is identified as a component of the National Audubon Society's Colorado Desert Microphyll Woodlands Important Bird Area. Old-growth blue palo verde trees in Milpitas Wash provide nesting cavities for an important population of Gila woodpeckers, which are listed as endangered under the California Endangered Species Act. Rare long-eared owls, Crissal thrashers, and black-tailed gnatcatchers also nest in Milpitas Wash.

Dense pockets of palo verde microphyll woodland occur in the northeast portion of the southern Chuckwalla region and are reported to have the highest winter bird densities in the California Desert. Sand dunes have dammed several small washes in the area, creating relatively wet conditions that are conducive to dense vegetative growth. These sand dunes in Chuckwalla Valley are fed by aeolian (windblown) sand transport corridors. In addition to the rich cultural sites associated with Ford Dry Lake, the portion of the Chuckwalla Valley in the eastern Chuckwalla region protects part of these sand transport corridors. The dunes in this area also provide habitat for the rare Mojave fringe-toed lizard.

Nightfall reveals another dimension of the Chuckwalla region. Kit foxes and sensitive species such as burrowing owls and elf owls emerge from dens, while a variety of rare bats including the California leaf-nosed bat, the western mastiff bat, and the western yellow bat dart through the desert sky. Mountain lions are also known to prowl the Chuckwalla region at night. A population of mountain lions in southern California and the central coast of California, which includes those in the Chuckwalla region, is currently a candidate species under consideration for listing under the California Endangered Species Act.

The Chuckwalla region encompasses striking geologic diversity, which both underpins the rich ecological and cultural values and is itself the focus of extensive research. In the far western reach of the southern area of this region, the Mecca Hills, shaped by the unquiet presence of the San Andreas Fault, attract not only hikers eager to explore their intricate canyons but a long line of geologists seeking to better understand fault dynamics. There is an exposure of Pliocene-Pleistocene terrestrial sedimentary rocks along the fault, and recent uplift and erosion have allowed the opportunity for its detailed analysis. Researchers have analyzed the Painted Canyon Fault, which lies within the San Andreas strike-slip fault zone in the Mecca Hills, to better understand tectonic processes along faults as far away as Denmark.

Just to the east of the Mecca Hills, the Orocopia Mountains have been the site of extensive study of the geologic mechanisms that shape the earth, including deposition, metamorphism, uplift, and exposure. In the late 1960s and early 1970s, the Orocopia Mountains were the site of field training for the Apollo 13 and 15 crews, preparing them to observe and document lunar geology.

In 1986, scientists documented five new species of mollusks from the Eocene epoch that were found in samples taken from the Orocopia Mountains, which helped clarify scientists' understanding of the timing of the westward migration of Eurasian mollusk species during the early Eocene and late Paleocene epochs. In the Palo Verde Mountains, at the southeastern edge of the Chuckwalla region, outcroppings of the Bouse Formation are helping scientists unlock mysteries around the formation of the Colorado River.

Protecting the Chuckwalla region will preserve an important spiritual, cultural, prehistoric, and historic legacy and protect places inscribed with history for future generations; maintain a diverse array of natural and scientific resources; and help ensure that the prehistoric, historic, and scientific resources and values of the region endure for the benefit of all Americans. As described above, the region contains numerous objects of historic and scientific interest, and it provides exceptional outdoor recreational opportunities, including hiking, camping, backpacking, rockhounding, sightseeing, nature study, birding, horseback riding, hunting, climbing, mountain biking, and motorized recreation, all of which are important to the travel- and tourism-based economy of the region.

WHEREAS, section 320301 of title 54, United States Code (the “Antiquities Act”), authorizes the President, in the President's discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected; and

WHEREAS, the Chuckwalla region has been profoundly sacred to Tribal Nations and Indigenous peoples with ties to the Colorado and Mojave Deserts since time immemorial; and

WHEREAS, it is in the public interest both to ensure the preservation, restoration, and protection of the objects of scientific and historic interest identified above and to advance renewable energy in Development Focus Areas (DFAs) that were identified by the Desert Renewable Energy Conservation Plan (DRECP) as of the date of this proclamation; and

WHEREAS, I find that all the objects identified above, and objects of the type identified above within the area described herein, are objects of historic or scientific interest in need of protection under section 320301 of title 54, United States Code, regardless of whether they are expressly identified as objects of historic or scientific interest in the text of this proclamation; and

WHEREAS, I find that there are threats to the objects identified in this proclamation, and, in the absence of a reservation under the Antiquities Act, the objects identified in this proclamation are not adequately protected by applicable law or administrative designations, thus making a national monument designation and reservation necessary to protect the objects of historic and scientific interest identified above for current and future generations; and

WHEREAS, I find that the boundaries of the monument reserved by this proclamation represent the smallest area compatible with the proper care and management of the objects of historic or scientific interest identified above, as required by the Antiquities Act; and

WHEREAS, it is in the public interest to ensure the preservation, restoration, and protection of the objects of historic and scientific interest identified above;

NOW, THEREFORE, I, JOSEPH R. BIDEN JR., President of the United States of America, by the authority vested in me by section 320301 of title 54, United States Code, hereby proclaim the objects identified above that are situated upon lands and interests in lands owned or controlled by the Federal Government to be the Chuckwalla National Monument (monument) and, for the purpose of protecting those objects, reserve as part thereof all lands and interests in lands that are owned or controlled by the Federal Government within the boundaries described on the accompanying map, which is attached hereto and forms a part of this proclamation. These reserved Federal lands and interests in lands encompass approximately 624,270 acres. As a result of the distribution of the objects across the Chuckwalla region, the boundaries described on the accompanying map are confined to the smallest area compatible with the proper care and management of the objects of historic or scientific interest identified above.

All Federal lands and interests in lands within the boundaries of the monument are hereby appropriated and withdrawn from all forms of entry, location, selection, sale, or other disposition under the public land laws, other than by exchange that furthers the protective purposes of the monument or that facilitates the remediation, monitoring, or reclamation of historic mining operations on public or private land within the monument boundary; from location, entry, and patent under the mining laws; and from disposition under all laws relating to mineral and geothermal leasing.

The establishment of the monument is subject to valid existing rights. If the Federal Government subsequently acquires any lands or interests in lands not currently owned or controlled by the Federal Government within the boundaries described on the accompanying map, such lands and interests in lands shall be reserved as a part of the monument, and objects of the type identified above that are situated upon those lands and interests in lands shall be part of the monument, upon acquisition of ownership or control by the Federal Government.

Nothing in this proclamation shall be construed to alter the valid existing water rights of any party, including the United States, or to alter or affect agreements governing the management and administration of the Colorado River, including any existing interstate water compact. This proclamation does not reserve water as a matter of Federal law.

The Secretary of the Interior (Secretary), through the BLM, shall manage the monument pursuant to applicable legal authorities, as a unit of the National Landscape Conservation System, and in accordance with the terms, conditions, and management direction provided by this proclamation.

For purposes of protecting and restoring the objects identified above, the Secretary shall within 3 years from the date of this proclamation prepare a management plan for the monument and shall promulgate such rules and regulations for the management of the monument as deemed appropriate. The Secretary, through the BLM, shall consult with other Federal land management agencies or agency components in the local area, including the Bureau of Reclamation, Department of Defense, and National Park Service, in developing the management plan.

The Secretary shall provide for maximum public involvement in the development of the management plan, as well as consultation with Tribal Nations affiliated culturally or historically with the Chuckwalla Region and conferral with State and local governments. In preparing the management plan, the Secretary shall take into account, to the maximum extent practicable, maintaining the undeveloped character of the lands within the monument; minimizing impacts from surface-disturbing activities; providing appropriate and, where consistent with the proper care and management of the objects of historic or scientific interest identified above, improving access for recreation, hunting, dispersed camping, wildlife management, scientific research, and the permissible casual collection of rocks; and emphasizing the retention of natural quiet, dark night skies, and scenic attributes of the region.

The Secretary shall consider appropriate mechanisms to provide for temporary closures to the general public of specific portions of the monument to protect the privacy of cultural, religious, and gathering activities of members of Tribal Nations.

The Secretary, through the BLM, shall establish an advisory committee under chapter 10 of title 5, United States Code (commonly known as the Federal Advisory Committee Act), to provide advice or recommendations regarding the development of the management plan and, as appropriate, management of the monument. The advisory committee shall consist of a fair and balanced representation of interested stakeholders, including State agencies and local governments; Tribal Nations; recreational users; conservation organizations; the scientific community; the renewable energy and electric utility industry; and the general public in the region.

In recognition of the value of collaboration with Tribal Nations for the proper care and management of the objects identified above and to ensure that management of the monument is informed by, integrates, and reflects Tribal expertise and Indigenous Knowledge, as appropriate, the Secretary shall meaningfully engage with Tribal Nations with cultural or historical affiliation to the Chuckwalla region, including by seeking opportunities for co-stewardship of the monument.

If Tribal Nations with cultural or historical affiliation to the Chuckwalla region independently establish a commission or other similar entity (commission) comprised of elected officers or official designees from each participating Tribal Nation to engage in co-stewardship of the monument with the Federal Government through shared responsibilities or administration, then the Secretary shall meaningfully engage the commission in the development, revision, or amendment of the management plan and the management of the monument, including by considering and, as appropriate, integrating the Indigenous Knowledge and special expertise of the members of the commission in the planning and management of the monument. The management plan for the monument shall also set forth parameters for continued meaningful engagement with the commission, if established, in the implementation of the management plan and, as appropriate, incorporate public education on and interpretation of traditional place names and the cultural significance of land within the monument. The Secretary shall explore opportunities to provide support to the commission, if established, to enable participation in the planning and management of the monument.

The Secretary shall also explore entering into cooperative agreements or contracts, pursuant to the Indian Self-Determination and Education Assistance Act, 25 U.S.C. 5301 et seq. or other applicable authorities, with Tribes or Tribal organizations to perform administrative or management functions within the monument and providing technical and financial assistance to improve the capacity of Tribal Nations to develop, enter into, and carry out activities under such cooperative agreements or contracts. The Secretary also shall explore opportunities for funding agreements with Tribal Nations relating to the management and protection of traditional cultural properties and other culturally significant programming associated with the monument.

Nothing in this proclamation shall be deemed to alter, modify, abrogate, enlarge, or diminish the rights or jurisdiction of any Tribal Nation, including off-reservation reserved rights. The Secretary shall, to the maximum extent permitted by law and in consultation with Tribal Nations, ensure the protection of sacred sites and cultural properties and sites in the monument and shall provide access to Tribal members for traditional cultural, spiritual, and customary uses, consistent with the American Indian Religious Freedom Act (42 U.S.C. 1996), the Religious Freedom Restoration Act (42 U.S.C. 2000bb et seq.), Executive Order 13007 of May 24, 1996 (Indian Sacred Sites), and the November 10, 2021, Memorandum of Understanding Regarding Interagency Coordination and Collaboration for the Protection of Indigenous Sacred Sites. Such uses shall include, but are not limited to, the collection of medicines, berries, plants, and other vegetation for cradle boards and other purposes, and firewood for ceremonial practices and personal noncommercial use, so long as each use is carried out consistent with applicable law and in a manner consistent with the proper care and management of the objects identified above. The Secretary shall endeavor to prepare an ethnographic study and cultural resources survey of the monument to assess the importance of the land to Tribal Nations affiliated culturally or historically with the Chuckwalla Region and the religious, spiritual, and cultural practices of culturally affiliated Tribal Nations.

The Secretary shall explore mechanisms, consistent with applicable law, to enable the protection of Indigenous Knowledge or other information relating to the nature and specific location of cultural resources within the monument and, to the extent practicable, shall explain to the holders of such knowledge or information any limitations on the ability to protect such information from disclosure before it is shared with the BLM.

Nothing in this proclamation shall be construed to preclude the renewal or assignment of, or interfere with the operation, maintenance, replacement, modification, upgrade, or access to, existing or previously approved flood control, utility, pipeline, and telecommunications sites or facilities; roads or highway corridors; seismic monitoring facilities; wildlife management structures installed by the BLM or the State of California; or water infrastructure, including wildlife water developments or water district facilities, within the boundaries of existing or previously approved authorizations within the monument. Existing or previously approved flood control, utility (including electric transmission and distribution), pipeline, telecommunications, and seismic monitoring facilities; roads or highway corridors; wildlife management structures installed by the BLM or the State of California; and water infrastructure, including wildlife water developments or water district facilities, may be expanded, and new facilities of such kind may be constructed, to the extent consistent with the proper care and management of the objects identified above and subject to the Secretary's authorities, other applicable law, and the provisions of this proclamation related to roads and trails.

For purposes of protecting and restoring the objects identified above, the Secretary shall prepare a transportation plan that designates the roads and trails on which motorized and non-motorized mechanized vehicle use will be allowed. The transportation plan shall include management decisions necessary to protect the objects identified in this proclamation. Except for emergency purposes and authorized administrative purposes, including management activities by appropriate California State agencies to maintain, enhance, or restore fish and wildlife populations and habitats, which are otherwise consistent with applicable law, motorized vehicle use in the monument may be permitted only on roads and trails documented as existing in BLM route inventories that exist as of the date of this proclamation. Any additional roads or trails designated for motorized vehicle use by the general public must be designated only for public safety needs or if necessary for the protection of the objects identified above.

Livestock grazing has not been permitted in the monument area since 2002, and the Secretary shall not issue any new grazing permits or leases on such lands.

Nothing in this proclamation shall affect the BLM's ability to authorize access to and remediation or monitoring of contaminated lands within the monument, including for remediation of unexploded ordnance and mine, mill, or tailing sites or for the restoration of natural resources.

Nothing in this proclamation shall preclude low-level overflights of military aircraft, the landing of military aircraft in accordance with aviation safety regulations in landing zones that have been or are designated in the future, military flight testing or evaluation, the designation of new units of special use airspace, the use of existing or the establishment of new military flight training routes, or low-level overflights and landings of aircraft by the BLM or its contractors for scientific or resource management purposes. Nothing in this proclamation shall preclude the use of land within the monument for military training, or preclude air or ground access to existing or new electronic tracking or communications sites associated with special use airspace and military flight training routes, after appropriate coordination between the Department of Defense and the Department of the Interior.

As this monument is located near DFAs identified by the DRECP and is consistent with the goals of that plan, nothing in this proclamation shall be interpreted to require denial of proposals for renewable energy projects that are in DFAs identified by the DRECP and that comply with all applicable legal requirements.

Nothing in this proclamation shall be deemed to enlarge or diminish the jurisdiction or authority of the State of California with respect to fish and wildlife management, including hunting and fishing, on the lands reserved by this proclamation. The Secretary shall seek to develop and implement science-based habitat and ecological restoration projects within the monument and shall seek to collaborate with the State of California on wildlife management within the monument, including through the development of new, or the continuation of existing, agreements with the California Department of Fish and Wildlife.

The Secretary shall evaluate opportunities to enter into one or more agreements with governments, including State, local, and Tribal, regarding the protection of the objects identified above during wildland fire prevention and response efforts. Nothing in this proclamation shall be construed to alter the authority or responsibility of any party with respect to emergency response activities within the monument, including wildland fire response.

Nothing in this proclamation shall be deemed to limit the authority of the Secretary, consistent with applicable law, to undertake or authorize activities for the purpose of ensuring safe and continued recreational access to canyons in the Mecca Hills Wilderness.

Nothing in this proclamation shall be deemed to revoke any existing withdrawal, reservation, or appropriation; however, the monument shall be the dominant reservation.

Warning is hereby given to all unauthorized persons not to appropriate, injure, destroy, or remove any feature of the monument and not to locate or settle upon any of the lands thereof.

If any provision of this proclamation, including its application to a particular parcel of land, is held to be invalid, the remainder of this proclamation and its application to other parcels of land shall not be affected thereby.

IN WITNESS WHEREOF, I have hereunto set my hand this fourteenth day of January, in the year of our Lord two thousand twenty-five, and of the Independence of the United States of America the two hundred and forty-ninth.

Billing code 3395-F4-P

[FR Doc. 2025-01441

Filed 1-16-25; 11:15 am]

Billing code 4310-10-C